DEPARTMENT OF TRANSPORTATION

Federal Aviation Administration

14 CFR Part 71

[Docket No. FAA-2021-0816; Airspace Docket No. 21-AWP-27]

RIN 2120-AA66

Proposed Modification of Class D and Class E Airspace, and Proposed Establishment of Class E Airspace; Southwest Oregon Regional Airport, OR

AGENCY: Federal Aviation Administration (FAA), DOT.

ACTION: Notice of proposed rulemaking (NPRM).

SUMMARY: This action proposes to modify the Class D and Class E surface airspace at Southwest Oregon Regional Airport, North Bend, OR. It also proposes to modify the Class E airspace by establishing an area that is designated as an extension to a Class D or Class E surface area, and to modify the Class E airspace extending upward from 700 feet above the surface. Lastly, this action proposes to remove navigational aids (NAVAID) from the legal description of the Class E2 and Class E5 text headers, and to update the Class D, Class E2, and Class E5 airspace legal descriptions and establish Class E4 airspace. This action would ensure the safety and management of instrument flight rules (IFR) operations at the airport.

DATES: Comments must be received on or before December 13, 2021.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2021-0816; Airspace Docket No. 21-ANM-27, at the beginning of your comments. You may also submit comments through the internet at https://www.regulations.gov.

FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order JO 7400.11F at NARA, email fr.inspection@nara.gov or go to https://www.archives.gov/federal-register/cfr/ibr-locations.html.

FOR FURTHER INFORMATION CONTACT: Elizabeth Healy, Federal Aviation Administration, Western Service Center, Operations Support Group, 2200 S 216th Street, Des Moines, WA 98198; telephone (206) 231-2227.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class D and Class E airspace at the Southwest Oregon Regional Airport, North Bend, OR, to support IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2021-0816; Airspace Docket No. 21-ANM-27”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by modifying the Class D airspace at Southwest Oregon Regional Airport, North Bend, OR. To properly contain departing IFR aircraft flying toward or over rising terrain, the Class D should be extended to the east and southeast of the airport.

This action also proposes to modify the Class E airspace designated as surface area. The proposed Class E surface area legal description should be coincident with the Class D legal description to properly contain departing IFR aircraft flying toward or over rising terrain.

Next, this action proposes to modify the Class E airspace by establishing an area that is designated as an extension to a Class D or Class E surface area. This airspace is needed to properly contain IFR arrivals; therefore, an extension east and another southwest of the airport should be established. The extensions are designed to contain arriving IFR aircraft when descending below 1,000 feet above the surface on the ILS or LOC Runway 5 and the VOR-B procedures.

This action also proposes to modify the Class E airspace extending upward from 700 feet above the surface. This airspace is designed to contain departing IFR aircraft until reaching 1,200 feet above the surface and arriving IFR aircraft descending below 1,500 feet above the surface. The Class E radius should be modified, and extensions to the northeast, east, southeast, south, southwest, and west of the airport should be established to contain IFR departures.

Additionally, this action proposes to remove the North Bend VORTAC and Emire LOM/NDB from the Class E2 text header and the airspace description. The navigational aids (NAVAID) are not required to describe the airspace area. Removal of the NAVAIDs simplifies the airspace's legal description.

This action also proposes to remove the North Bend VORTAC from the Class E5 text header and the airspace description and replace it with the Southwest Oregon Regional Airport's Airport Reference Point coordinates. The NAVAID is not required to describe the airspace area. Removal of the NAVAID simplifies the airspace's legal description.

Lastly, this action proposes an administrative update to replace the term “Airport/Facility Directory” in the last line of the Class D and Class E2 airspace descriptions with the term “Chart Supplement.”

Class D, Class E2, Class E4, and Class E5 airspace designations are published in paragraphs 5000, 6002, 6004, and 6005, respectively, of FAA Order JO 7400.11F, dated August 10, 2021, and effective September 15, 2021, which is incorporated by reference in 14 CFR 71.1. The Class D and Class E airspace designations listed in this document will be published subsequently in FAA Order JO 7400.11F.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ANM OR D North Bend, OR [Amended]

Southwest Oregon Regional Airport, OR

(Lat. 43°25′01″ N, long. 124°14′49″ W)

Sunnyhill Airport, OR

(Lat. 43°28′59″ N, long. 124°12′10″ W)

That airspace extending upward from the surface to and including 2,500 feet MSL within a 4.2-mile radius of the Southwest Oregon Regional Airport, and within 1.8 miles each side of the 059° bearing from the airport, extending from the 4.2-mile radius to 5.9 miles northeast of the airport, and within 2.9 miles each side of the 159° bearing from the airport, extending from the 4.2-mile radius to 6.4 miles south of the airport, excluding that airspace within a 0.9-mile radius of Sunnyhill Airport below 1,300 feet MSL. This Class D airspace area is effective during the specific dates and times established, in advance, by a Notice to Airmen. The effective date and time will thereafter be continuously published in the Chart Supplement.

Paragraph 6002 Class E Airspace Areas Designated as Surface Areas.

* * * * *

ANM OR E2 North Bend, OR [Amended]

Southwest Oregon Regional Airport, OR

(Lat. 43°25′01″ N, long. 124°14′49″ W)

Sunnyhill Airport, OR

(Lat. 43°28′59″ N, long. 124°12′10″ W)

That airspace extending upward from the surface within a 4.2-mile radius of the Southwest Oregon Regional Airport, and within 1.8 miles each side of the 059° bearing from the airport, extending from the 4.2-mile radius to 5.9 miles northeast of the airport, and within 2.9 miles each side of the 159° bearing from the airport, extending from the 4.2-mile radius to 6.4 miles south of the airport, excluding that airspace within a 0.9-mile radius of Sunnyhill Airport below 1,300 feet MSL. This Class E airspace area is effective during the specific dates and times established in advance by a Notice to Airmen. The effective date and time will thereafter be continuously published in the Chart Supplement.

Paragraph 6004 Class E Airspace Areas Designated as an Extension to a Class D or Class E Surface Area.

* * * * *

ANM OR E4 North Bend, OR [New]

Southwest Oregon Regional Airport, OR

(Lat. 43°25′01″ N, long. 124°14′49″ W)

That airspace upward from the surface within 3.6 miles north and 3.5 miles south of the 092° bearing from the airport, extending from the Southwest Oregon Regional Airport Class D 4.2-mile radius to 11.7 miles east of the airport, and within 2.0 miles southeast and 2.1 miles northwest of the 242° bearing from the airport, extending from the Class D 4.2-mile radius to 9.4 miles southwest of the airport.

Paragraph 6005 Class E Airspace Areas Extending Upward From 700 Feet or More Above the Surface of the Earth.

* * * * *

ANM OR E5 North Bend, OR [Amended]

Southwest Oregon Regional Airport, OR

(Lat. 43°25′01″ N, long. 124°14′49″ W)

That airspace extending upward from 700 feet above the surface within a 9-mile radius of the airport, and within 2.0 miles northwest and 2.6 miles southeast of the 058° bearing from the airport, extending from the 9-mile radius to 10.4 miles northeast of the airport, and within 3.8 miles north and 3.7 miles south of the 92° bearing from the airport, extending from the 9-mile radius to 12.7 miles east of the airport, and within 1.9 miles each side of the 149° bearing from the airport, extending from the 9-mile radius to 12.1 miles southeast of the airport, and within 3.0 miles each side of the 199° bearing from the airport, extending from the 9-mile radius to 15 miles south of the airport, and within 8.1 miles southeast and 3.9 miles northwest of the 241° bearing from the airport, extending from the 9-mile radius to 19.2 miles southwest of the airport, and within 3.3 miles each side of the 275° bearing from the airport, extending from the 9-mile radius to 12.1 miles west of the airport.

Issued in Des Moines, Washington, on October 12, 2021.
B.G. Chew,
Acting Group Manager, Operations Support Group, Western Service Center.

[FR Doc. 2021-23217 Filed 10-27-21; 8:45 am]

BILLING CODE 4910-13-P